POSTAL SERVICE

39 CFR Part 20

International Recorded Delivery Service

AGENCY: Postal Service.

ACTION: Final rule.

SUMMARY: The Postal Service is adopting a new fee for international recorded delivery service.

DATES: The rule is effective on July 1, 2001.

FOR FURTHER INFORMATION CONTACT: John A. Reynolds 703-292-3620.

SUPPLEMENTARY INFORMATION: On December 8, 2000, the Postal Service published a final rule in the Federal Register (65 FR 77075) adopting changes in international postal rates, fees, and mail classifications. The rule was effective on January 7, 2001. At that time, the Postal Service noted that certain international special service fees were based on the domestic equivalent service and were subject to change based on the Board of Governors' decision about domestic mail.

Recorded delivery service is an international special service that is equivalent to the domestic service, certified mail. Mailers using the service receive a numbered mailing receipt and the destination post office retains a record to establish proof of delivery for each mailed item. Recorded delivery items are handled as ordinary mail during transit. The fee for recorded delivery is based on the fee for the equivalent domestic service, certified mail.

The Postal Rate Commission, in its recommended decision on R2000-1, recommended a fee of $1.90 for certified mail. The Postal Service adopted this fee, under protest, for certified mail. Likewise, we set the fee for recorded delivery at $1.90.

On May 7, 2001, the Board of Governors adopted a fee of $2.10 for certified mail; the new rate is effective on July 1, 2001. Accordingly, we are changing the fee for recorded delivery service to $2.10 effective July 1, 2001.

The Postal Service adopts the following amendments to the International Mail Manual (IMM), which is incorporated by reference in the Code of Federal Regulations (CFR). (See 39 CFR 20.1.)

List of Subjects in 39 CFR Part 20

Foreign relations.

For the reasons discussed in the preamble, the Postal Service amends 39 CFR Part 20 as follows:

PART 20—[AMENDED]

1. The authority citation for part 20 continues to read as follows:

Authority: 5 U.S.C. 552(a); 39 U.S.C. 401, 404, 407, 408.

2. Amend subchapter 360 of the International Mail Manual (IMM) by revising section 363 to read as follows:

International Mail Manual (IMM)

* * * * *

Chapter 3 Special Services

* * * * *

360 Recorded Delivery

* * * * *

363 Recorded Delivery Fee

The recorded delivery fee is $2.10 and is in addition to postage and other special service fees, if applicable.

* * * * *

Stanley F. Mires,
Chief Counsel, Legislative.

[FR Doc. 01-13704 Filed 5-31-01; 8:45 am]

BILLING CODE 7710-12-U